DEPARTMENT OF COMMERCE

National Institute of Standards and Technology

Submission for OMB Review; Comment Request

The Department of Commerce will submit to the Office of Management and Budget (OMB) for clearance the following proposal for collection of information under the provisions of the Paperwork Reduction Act (44 U.S.C. Chapter 35).

Agency: National Institute of Standards and Technology (NIST).

Title: SURF Fellow Housing Application.

OMB Control Number: New collection. 0693-XXXX.

Form Number(s): None.

Type of Request: Regular submission (new information collection).

Number of Respondents: 220.

Average Hours per Response: 30 minutes.

Burden Hours: 110 hours.

Needs and Uses: The purpose of this collection is to gather information requested on behalf of the NIST Summer Undergraduate Research Fellowship (SURF) Program for both Gaithersburg and Boulder locations. Students participating in the program receive a fellowship which includes lodging arranged by the agency. To coordinate the lodging, information is submitted by accepted students which require lodging during the program dates. The student information is utilized for roommate matching based on gender and common interests. The information includes: Identification of accepted laboratory, housing requirement (yes or no), first name, last name, dates requesting housing, gender, roommate identification, name of academic institution of enrollment, preferences (night owl, early bird, neatness, smoking,), and special requests.

Affected Public: Students.

Frequency: Annually.

Respondent's Obligation: Required to Obtain or Retain Benefits.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer, Commerce Department.

[FR Doc. 2019-07407 Filed 4-12-19; 8:45 am]

BILLING CODE 3510-13-P